DEPARTMENT OF COMMERCE

National Oceanic and Atmospheric Administration

RIN 0648-XP001

Pacific Island Fisheries; American Samoa Bottomfish Fishery Disaster Relief

AGENCY: National Marine Fisheries Service (NMFS), National Oceanic and Atmospheric Administration (NOAA), Commerce.

ACTION: Notice of availability of a draft environmental assessment; request for comments.

SUMMARY: NMFS announces the availability of a draft environmental assessment (EA) of the potential effects of two construction projects. The EA would support the release by NMFS of Congressionally-appropriated funds for disaster relief in the American Samoa (AS) bottomfish fishery. The AS Department of Marine and Wildlife Resources (DMWR) would use the funds to construct a boat ramp and ice house in Pago Pago Harbor.

DATES: NMFS must receive comments by July 25, 2019.

ADDRESSES: You may submit comments on this document, identified by NOAA-NMFS-2019-0075, by either of the following methods:

• Electronic Submission: Submit all electronic public comments via the Federal e-Rulemaking Portal. Go to https://www.regulations.gov/#!docketDetail;D=NOAA-NMFS-2019-0075, click the “Comment Now!” icon, complete the required fields, and enter or attach your comments.

• Mail: Send written comments to Michael D. Tosatto, Regional Administrator, NMFS Pacific Islands Region (PIR), 1845 Wasp Blvd., Bldg. 176, Honolulu, HI 96818.

Instructions: Comments sent by any other method, to any other address or individual, or received after the end of the comment period, may not be considered by NMFS. All comments received are a part of the public record and will generally be posted for public viewing on http://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Phyllis Ha, Sustainable Fisheries, NMFS PIR, tel 808-725-5000.

SUPPLEMENTARY INFORMATION: On September 29, 2009, a submarine earthquake in the Pacific generated a tsunami that caused widespread damage, loss of life, and injuries in AS and elsewhere. The waves damaged coastal areas of Tutuila and the other AS islands. After President Obama declared a major disaster in the Territory of American Samoa (DR-1859; September 29, 2009), the Governor of American Samoa sought fishery disaster assistance in accordance with processes provided in the Magnuson-Stevens Fishery Conservation and Management Act (Magnuson-Stevens Act) and the Inter-jurisdictional Fisheries Act (IFA).

Damage assessment reports prepared by the DMWR, the Western Pacific Fishery Management Council (Council), and NMFS documented extensive damage to the harbor and floating docks in Pago Pago, damaged and destroyed alia (small fishing vessels), fishing gear, infrastructure, as well as lost fishing opportunities resulting in reduced food supply and income from the bottomfish fishery. The formerly productive and profitable bottomfish fishery was estimated to have lost 80% of its revenue after the tsunami. The Council reported that 17 vessels (50 percent of the fleet) were damaged or destroyed and lost income was estimated to be around $200,000. The AS government estimated the value of the fishery failure to be approximately $5 million.

After considering results of damage assessment reports, the Secretary of Commerce determined that a commercial fishery failure occurred for the bottomfish fishery in AS due to a fisheries resource disaster. The Secretary noted that the tsunami caused significant loss of access to the fishery resource and revenues declines and the effects met with criteria in Magnuson-Stevens Act section 312(a) and IFA section 308(b).

In 2014, Congress appropriated disaster relief funding for NMFS to provide assistance to AS. DMWR proposes to use these funds to build a small community boat ramp at the southwestern-most terminus of Pago Pago Harbor, and a small ice house at the DMWR administrative work station in Fagatogo (at Pago Pago Harbor). The boat ramp would relieve boat traffic congestion in the area and result in improved launching and return of fishing vessels. The ice house would house and protect ice machines that produce ice used by bottomfish fishermen to maintain the quality of the fish they harvest.

NMFS has produced a draft EA to evaluate the environmental effects of building the boat ramp and ice house. The draft EA shows that the construction includes several provisions intended to protect water quality in the harbor and prevent large adverse effects on wildlife. NMFS is seeking public comments on the draft EA.

Dated: July 5, 2019.
Jennifer M. Wallace,
Acting Director, Office of Sustainable Fisheries, National Marine Fisheries Service.

[FR Doc. 2019-14668 Filed 7-9-19; 8:45 am]

BILLING CODE 3510-22-P